DEPARTMENT OF ENERGY

Federal Energy Regulatory Commission

[Project No. 13365-000]

City of Angoon; Notice of Preliminary Permit Application Accepted for Filing and Soliciting Comments, Motions To Intervene, and Competing Applications

June 1, 2009.

On February 5, 2009 and supplemented on May 14, 2009, the City of Angoon filed an application for a preliminary permit, pursuant to section 4(f) of the Federal Power Act, proposing to study the feasibility of the Scenery Lake Hydroelectric Project located on Scenery Lake and Scenery Creek, near the town of Petersburg, Alaska. The project would be located within the Tongass National Forest, with a portion of the transmission line crossing the state of Alaska and city of Petersburg's lands. The sole purpose of a preliminary permit, if issued, is to grant the permit holder priority to file a license application during the permit term. A preliminary permit does not authorize the permit holder to perform any land disturbing activities or otherwise enter upon lands or waters owned by others without the owners' express permission.

The proposed project would consist of: (1) A 120-foot-high concrete arch dam with spillway impounding Scenery Lake having a surface area of 520 to 820 acres and a storage capacity of 58,000 to 80,000 acre-feet; (2) a lake tap or siphon with fish screen; (3) a 13,000-foot-long by 8-foot-diameter power conduit; (4) a powerhouse containing two to four new generating units having an installed capacity of 40 megawatts; (5) a proposed 29-mile-long, 69- and 138-kilovolt transmission line; and (6) appurtenant facilities. The proposed Scenery Lake Project would have an average annual generation of 80 gigawatt-hours.

Applicant Contact: Albert Howard, Mayor, City of Angoon, P.O. Box 189, Angoon, AK 99820; phone: (907) 788-3653.

FERC Contact: Gina Krump, (202) 502-6704, gina.krump@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13365) in the docket number field to access the document. For assistance, call toll-free 1-866-208-3372.

Kimberly D. Bose,
Secretary.

[FR Doc. E9-13237 Filed 6-5-09; 8:45 am]

BILLING CODE 6717-01-P